DEPARTMENT OF TRANSPORTATION

Federal Motor Carrier Safety Administration

Sunshine Act Meetings; Unified Carrier Registration Plan Board of Directors

AGENCY: Federal Motor Carrier Safety Administration (FMCSA), DOT.

ACTION: Notice of Unified Carrier Registration Plan Procedures Subcommittee Meeting.

TIME AND DATE: The meeting will occur on October 9, 2018, at 1 p.m. Eastern Daylight Time.

PLACE: This meeting will be open to the public via conference call. Any interested person may call 1-866-210-1669, passcode 5253902#, to listen and participate in this meeting.

STATUS: Open to the public.

MATTERS TO BE CONSIDERED: The Unified Carrier Registration Plan Procedures Subcommittee will continue its work in developing and implementing the Unified Carrier Registration Plan and Agreement. An agenda for this meeting will be available in advance of the meeting at https://ucrplan.org.

FOR FURTHER INFORMATION CONTACT: Mr. Avelino Gutierrez, Chair, Unified Carrier Registration Board of Directors, at (505) 827-4565.

Issued on: September 28, 2018.
Larry W. Minor,
Associate Administrator, Office of Policy, Federal Motor Carrier Safety Administration.

[FR Doc. 2018-21622 Filed 10-1-18; 4:15 pm]

BILLING CODE 4910-EX-P